DEPARTMENT OF LABOR

Office of the Secretary

Submission for OMB Review; Comment Request

October 11, 2000.

The Department of Labor (DOL) has submitted the following public information collection requests (ICRs) to the Office of Management and Budget (OMB) for review and approval in accordance with the Paperwork Reduction Act of 1995 (Pub. L. 104-13, U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Employment Standards Agency (ESA).

Title: Authorization for Release of Medical Information.

OMB Number: 1215-0057.

Affected Public: Individuals or households.

Frequency: Once.

Number of Respondents: 2,700.

Number of Annual Responses: 2,700.

Estimated Time Per Response: 5 minutes.

Total Burden Hours: 225.

Total Annualized Capital/Startup Costs: $0.

Total Annual Costs (operating/maintaining systems or purchasing services): $0.

Description: The CM-936 is used to obtain a claimant's authorization for the Division of Coal Mine Workers' Compensation to obtain medical evidence in support of a black lung claim.

Type of Review: Extension of a currently approved collection.

Agency: Employment Standards Agency (ESA).

Title: Recordkeeping and Reporting Requirements, Construction.

OMB Number: 1215-0163.

Affected Public: Business or other for-profit and Not-for-profit institutions.

Frequency: Quarterly.

Number of Respondents: 100,000.

Number of Annual Responses: 103,711.

Estimated Time Per Response

Recordkeeping

Records Maintenance: 8 to 24 hours

Affirmative Action Plan, Initial Development: 18 hours

Affirmative Action Plan, Annual Update: 7.5 hours

Affirmative Action Plan, Maintenance: 7.5 hours

Reporting

CC-41 Quarterly Administrative Committee Report: 25 minutes

Compliance Reviews: 1-2 hours

Total Burden Hours: 4,841,475.

Total Annualized Capital/Startup Costs: $0.

Total Annual Costs (operating/maintaining systems or purchasing services): $0.

Description: Recordkeeping and reporting by Federal and Federally-assisted construction contractors and subcontractors is necessary to substantiate compliance with nondiscrimination and affirmative action contractual obligations.

Ira L. Mills,
Department Clearance Officer.

[FR Doc. 00-26635 Filed 10-16-00; 8:45 am]

BILLING CODE 4510-48-M